DEPARTMENT OF THE INTERIOR

Fish and Wildlife Service

Draft Environmental Impact Report/Environmental Impact Statement and Habitat Conservation Plan for the Natomas Basin, Sacramento County, CA

AGENCY: Fish and Wildlife Service, Interior.

ACTION: Extension of comment period and notice of availability.

SUMMARY: On August 26, 2002, the Fish and Wildlife Service (Service) issued a Notice of Availability (NOA) for the draft Environmental Impact Statement/Environmental Impact Report (EIS/EIR) and draft Habitat Conservation Plan (HCP) for the Natomas Basin, Sacramento County, California (67 FR 54819). We are extending the comment period, which was originally scheduled to close on October 22, 2002, to December 2, 2002. Comments already submitted on the draft EIS/EIR and draft HCP need not be resubmitted as they will be fully considered in the final documents. This notice is provided pursuant to section 10(a) of the Endangered Species Act and Service regulations for implementing the National Environmental Policy Act of 1969 (40 CFR 1506.6). In addition, the draft HCP included as an appendix a Natomas Basin HCP Fee Update, prepared by Economic Planning Systems (EPS), to estimate the amount of the mitigation fee under the HCP. The Service also announces the availability of a revised Fee Study Update that EPS has prepared and invites public comment during the extended public comment period.

DATES: The comment period now closes on December 5, 2002. Any comments received by the closing date will be considered in the final documents.

ADDRESSES: Comments should be addressed to the Field Supervisor, Fish and Wildlife Service, Sacramento Fish and Wildlife Office, 2800 Cottage Way, W-2605, Sacramento, California 95825. Written comments may be sent by facsimile to (916) 414-6711.

FOR FURTHER INFORMATION CONTACT: Ms. Vicki Campbell, Chief, Conservation Planning Division, at the Sacramento Fish and Wildlife Office (see ADDRESSES); telephone: (916) 414-6600.

SUPPLEMENTARY INFORMATION:

Document Availability

Individuals wishing copies of the fee study should immediately contact the Service by telephone at (916) 414-6600 or by letter to the Sacramento Fish and Wildlife Office [see ADDRESSES]. Copies of the updated fee study Update also are available for public inspection, during regular business hours, at the Sacramento Fish and Wildlife Office; and the City of Sacramento Planning and Building Department, 1231 I Street, Room 300, Sacramento, California; State Library, 914 Capitol Mall, Sacramento, California; Central Library, 828 I Street, Sacramento, California; South Natomas Library, 2901 Truxel Road, Sacramento, California; and Sutter County Library, 750 Forbes Avenue, Yuba City, California.

Dated: October 28, 2002.
Daniel S. Walsworth,
Acting Deputy Manager, California/Nevada Operations Office, Sacramento, California.

[FR Doc. 02-27955 Filed 11-1-02; 8:45 am]

BILLING CODE 4310-55-P